DEPARTMENT OF VETERANS AFFAIRS

Genomic Medicine Program Advisory Committee

The Department of Veterans Affairs (VA) gives notice under the Federal Advisory Committee Act, that a meeting of the Genomic Medicine Program Advisory Committee (the Committee) will be held on Wednesday, September 18, at the Hilton Garden Inn/Capitol Hill located at 1225 First Street NE, Washington, District of Columbia 20002, USA. The meeting will begin at 9 a.m. EST and adjourn at 4:30 p.m. EDT. The meeting is open to the public.

The purpose of the Committee is to provide advice and make recommendations to the Secretary of Veterans Affairs on using genetic information to optimize medical care for Veterans and to enhance development of tests and treatments for diseases particularly relevant to Veterans.

On September 18, 2019, the Committee will receive updated briefings on various VA research programs, including the Million Veteran Program (MVP) to ascertain the progress of the program in the areas of participant recruitment, data generation and storage, and data access. The Committee will also receive updates from ongoing MVP endeavors, including cohort building, data generation and usage, and the VA-Department of Energy (DOE) collaborative projects. Additionally, the Committee will discuss and explore potential recommendations to be included in the next annual report.

Public comments will be received at 3:30 p.m. and are limited to 5 minutes each. Individuals who speak are invited to submit a 1-2 page summary of their comments for inclusion in the official meeting record to Jennifer Moser, Designated Federal Officer, Office of Research and Development (10X2), 810 Vermont Avenue NW, Washington, DC 20420, or via email at Jennifer.Moser@va.gov. In the communication, writers must identify themselves and state the organization, association or person(s) they represent. Any member of the public who wishes to attend the meeting should RSVP to Jennifer Moser at (202) 443-5678 no later than close of business, September 8, 2019 at the phone number or email address noted above.

Dated: August 2, 2019.
LaTonya L. Small,
Federal Advisory Committee Management Officer.

[FR Doc. 2019-16931 Filed 8-7-19; 8:45 am]

BILLING CODE P